FEDERAL MINE SAFETY AND HEALTH REVIEW COMMISSION

29 CFR Part 2700

Procedural Rules

AGENCY: Federal Mine Safety and Health Review Commission.

ACTION: Notice of proposed rulemaking; withdrawal.

SUMMARY: This action withdraws a notice of proposed rulemaking that proposed adding a new procedural rule setting forth settlement procedures for cases that come before the Federal Mine Safety and Health Review Commission. The new procedures were to be instituted as a pilot program for a two-year trial period. Since the issuance of the notice of proposed rulemaking, the Commission has reelvaluated the pilot program and has determined that withdrawal of the notice is appropriate at this time.

FOR FURTHER INFORMATION CONTACT: Norman M. Gleichman, General Counsel, Federal Mine Safety and Health Review Commission, 1730 K Street, NW., 6th Floor, Washington, DC 20006; telephone 202-653-5610 (202-653-2673 for TDD relay). Telephone numbers are not toll-free.

SUPPLEMENTARY INFORMATION: On November 10, 1999, the Commission issued a notice of proposed rulemaking, which proposed amending its procedural rules, 29 CFR part 2700, by adding a new procedural rule setting forth settlement procedures which were intended to facilitate and promote the pre-hearing settlement of contested cases that come before the Commission (64 FR 61236-39). The Commission's procedural rules are currently silent regarding procedures to be utilized by administrative law judges (“ALJs”) to facilitate the settlement of contested cases. The procedures used in a given case to foster pre-hearing settlement of disputes have been determined informally by the individual ALJ assigned to the case. The proposed rule, 29 CFR 2700.85, was intended to provide a structured and formal system for settlement, which would be initiated by the appointing of a settlement judge on the motion of any party or on the chief administrative law judge's own initiative.

In response to a request by the Department of Labor's Office of the Solicitor, the Commission extended the comment period on the proposed rule for 30 days. 64 FR 68649 (Dec. 8, 1999). The Commission subsequently received comments suggesting, in part, that the settlement procedures should be initiated with the consent of all parties. In considering those comments, the Commission further examined the percentage of cases that settled and the length of time it took to reach settlement under the current informal system. Based upon that examination, the Commission has reconsidered the utility of a formal settlement system at the present time, and shall further evaluate the best means of effectuating the consensual resolution of disputes.

Withdrawal of the notice of proposed rulemaking constitutes only such action, and does not preclude the Commission from issuing another notice in the future, nor does it commit the Commission to any course of action in the future.

Regulatory Impact

Since this action only withdraws a notice of proposed rulemaking, it is neither a proposed nor a final rule and therefore is not covered under Executive Order 12866, or the Regulatory Flexibility Act (5 U.S.C. 601-612).

List of Subjects in 29 CFR Part 2700

Hearing and appeal procedures, Administrative practice and procedure, Ex parte communications, Lawyers.

Withdrawal of Notice of Proposed Rulemaking

Accordingly, the notice of proposed rulemaking that was published by the Commission in the Federal Register on November 10, 1999 (64 FR 61236-39) is withdrawn.

Dated: January 7, 2002.
Theodore F. Verheggen,
Chairman.

[FR Doc. 02-800 Filed 1-11-02; 8:45 am]

BILLING CODE 6735-01-P